DEPARTMENT OF ENERGY

Federal Energy Regulatory Commission

Combined Notice of Filings #1

Take notice that the Commission received the following electric corporate filings:

Docket Numbers: EC22-97-000.

Applicants: Longroad Energy Holdings, LLC on Behalf of Its Public Utility Subsidiaries.

Description: Application for Authorization Under Section 203 of the Federal Power Act of Longroad Energy Holdings, LLC.

Filed Date: 8/1/22.

Accession Number: 20220801-5288.

Comment Date: 5 p.m. ET 8/22/22.

Take notice that the Commission received the following exempt wholesale generator filings:

Docket Numbers: EG22-199-000.

Applicants: Kawailoa Solar, LLC.

Description: Kawailoa Solar, LLC submits Notice of Self-Certification of Exempt Wholesale Generator Status of Kawailoa Solar, LLC.

Filed Date: 8/2/22.

Accession Number: 20220802-5037.

Comment Date: 5 p.m. ET 8/23/22.

Take notice that the Commission received the following electric rate filings:

Docket Numbers: ER10-2475-029; ER10-1520-008; ER10-1521-008; ER10-2474-028; ER10-2984-059; ER10-3246-022; ER13-1266-039; ER15-2211-039; ER20-2493-003; ER22-1385-002.

Applicants: BHER Market Operations, LLC., OTCF, LLC, MidAmerican Energy Services, LLC, CalEnergy, LLC, PacifiCorp,Merrill Lynch Commodities, Inc., Sierra Pacific Power Company, Occidental Power Marketing, L.P., Occidental Power Services, Inc., Nevada Power Company.

Description: Notice of Non-Material Change in Status of Nevada Power Company, et al.

Filed Date: 7/29/22.

Accession Number: 20220729-5396.

Comment Date: 5 p.m. ET 8/19/22.

Docket Numbers: ER15-2590-002.

Applicants: Triolith Energy Fund L.P.

Description: Notice of Change in Status of Triolith Energy Fund L.P.

Filed Date: 8/1/22.

Accession Number: 20220801-5283.

Comment Date: 5 p.m. ET 8/22/22.

Docket Numbers: ER17-1394-005; ER19-2728-003; ER19-2729-003.

Applicants: Lily Solar Lessee, LLC, Lily Solar LLC, 83WI 8me, LLC.

Description: Notice of Non-Material Change in Status of 83WI 8me, LLC, et al.

Filed Date: 8/2/22.

Accession Number: 20220802-5067.

Comment Date: 5 p.m. ET 8/23/22.

Docket Numbers: ER18-1150-007; ER22-2188-001.

Applicants: Northwest Ohio IA, LLC, Trishe Wind Ohio, LLC.

Description: Notice of Change in Status of Trishe Wind Ohio, LLC, et al.

Filed Date: 8/1/22.

Accession Number: 20220801-5287.

Comment Date: 5 p.m. ET 8/22/22.

Docket Numbers: ER21-1755-001.

Applicants: Hartree Partners, LP.

Description: Notice of Change in Status of Hartree Partners, LP.

Filed Date: 8/1/22.

Accession Number: 20220801-5285.

Comment Date: 5 p.m. ET 8/22/22.

Docket Numbers: ER22-1370-001.

Applicants: Sunlight Storage, LLC.

Description: Notice of Change in Status of Sunlight Storage, LLC.

Filed Date: 8/1/22.

Accession Number: 20220801-5291.

Comment Date: 5 p.m. ET 8/22/22.

Docket Numbers: ER22-2582-000.

Applicants: Appalachian Power Company.

Description: § 205(d) Rate Filing: OATT—Revise Attachment K, AEP Texas Inc. Rate Update to be effective 12/31/9998.

Filed Date: 8/1/22.

Accession Number: 20220801-5186.

Comment Date: 5 p.m. ET 8/22/22.

Docket Numbers: ER22-2583-000.

Applicants: Idaho Power Company.

Description: § 205(d) Rate Filing: Reserve Energy Service Tariff to be effective 10/1/2022.

Filed Date: 8/1/22.

Accession Number: 20220801-5189.

Comment Date: 5 p.m. ET 8/22/22.

Docket Numbers: ER22-2584-000.

Applicants: Greeley Energy Facility, LLC.

Description: § 205(d) Rate Filing: Notice of Change in Status, Change in Cat. Seller Status and Tariff Revisions to be effective 8/2/2022.

Filed Date: 8/1/22.

Accession Number: 20220801-5192.

Comment Date: 5 p.m. ET 8/22/22.

Docket Numbers: ER22-2585-000.

Applicants: Public Service Company of New Mexico.

Description: § 205(d) Rate Filing: Ancillary Service Schedules 3, 5, and 6 to be effective 10/1/2022.

Filed Date: 8/1/22.

Accession Number: 20220801-5218.

Comment Date: 5 p.m. ET 8/22/22.

Docket Numbers: ER22-2586-000.

Applicants: Southwest Power Pool, Inc.

Description: § 205(d) Rate Filing: 3746R1 Tenaska Power Services Co. Attachment AO to be effective 10/1/2022.

Filed Date: 8/2/22.

Accession Number: 20220802-5013.

Comment Date: 5 p.m. ET 8/23/22.

Docket Numbers: ER22-2587-000.

Applicants: PacifiCorp.

Description: § 205(d) Rate Filing: USBR-WAPA Weber Basin Project Agreement Rev 5 to be effective 10/2/2022.

Filed Date: 8/2/22.

Accession Number: 20220802-5064.

Comment Date: 5 p.m. ET 8/23/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2022.
Debbie-Anne A. Reese,
Deputy Secretary.

[FR Doc. 2022-16920 Filed 8-5-22; 8:45 am]

BILLING CODE 6717-01-P